DEPARTMENT OF JUSTICE

Antitrust Division

Notice Pursuant to the National Cooperative Research and Production Act of 1993—National Spectrum Consortium

Notice is hereby given that, on July 12, 2017, pursuant to section 6(a) of the National Cooperative Research and Production Act of 1993, 15 U.S.C. 4301 et seq. (“the Act”), National Spectrum Consortium (“NSC”) has filed written notifications simultaneously with the Attorney General and the Federal Trade Commission disclosing changes in its membership. The notifications were filed for the purpose of extending the Act's provisions limiting the recovery of antitrust plaintiffs to actual damages under specified circumstances. Specifically, Avcom of Virginia, Inc., N. Chesterfield, VA; Strategic Spectrum Solutions Corp (S3), Bethesda, MD; Glover 38th Street Holdings LLC, Smithfield, VA; KAB Laboratories, Inc., San Diego, CA; Tektronix, Inc., Beaverton, OR; ORSA Technologies, LLC, Sierra Vista, AZ; DEEPSIG, Inc., Arlington, VA; QRC Technologies, Fredericksburg, VA; Freedom Technologies, Inc., Arlington, VA; Giga-tronics, Incorporated, Dublin, CA; Cambium Networks, Inc., Rolling Meadows, IL; Epiq Solutions, Schaumburg, IL; LinQuest Corporation, Los Angeles, CA; Syncopated Engineering, Inc., Ellicott City, MD; Bascom Hunter Technologies, Inc., Baton Rouge, LA; InCadence Strategic Solutions, Manassas, VA; and Long Wave, Inc., Oklahoma City, OK, have been added as parties to this venture.

Also, Hercules Research LLC, Chantilly, WA, has withdrawn from this venture.

No other changes have been made in either the membership or planned activity of the group research project. Membership in this group research project remains open, and NSC intends to file additional written notifications disclosing all changes in membership.

On May 24, 2014, NSC filed its original notification pursuant to section 6(a) of the Act. The Department of Justice published a notice in the Federal Register pursuant to section 6(b) of the Act on November 4, 2014 (72 FR 65424).

The last notification was filed with the Department on April 10, 2017. A notice was published in the Federal Register pursuant to section 6(b) of the Act on May 12, 2017 (82 FR 22160).

Patricia A. Brink,
Director of Civil Enforcement, Antitrust Division.

[FR Doc. 2017-17148 Filed 8-14-17; 8:45 am]

BILLING CODE P